DEPARTMENT OF AGRICULTURE

Food and Nutrition Service

Agency Information Collection Activities: Proposed Collection; Comment Request—Evaluation of the Impact of the Summer Food Service Programs Enhancement Demonstrations on Food Insecurity

AGENCY: Food and Nutrition Service (FNS), USDA.

ACTION: Notice.

SUMMARY: In accordance with the Paperwork Reduction Act of 1995, this notice invites the general public and other public agencies to comment on this proposed information collection. This collection is a new collection for the purpose of conducting The Evaluation of the Impact of the Summer Food Service Programs Enhancement Demonstrations on Food Insecurity.

DATES: Written comments must be received on or before March 8, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Steven Carlson, Director, Office of Research and Analysis, Food and Nutrition Service, U.S. Department of Agriculture, 3101 Park Center Drive, Room 1014, Alexandria, VA 22302. Comments may also be submitted via fax to the attention of Steven Carlson at 703-305-2576 or via e-mail to Steven.Carlson@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Steven Carlson at 703-305-2017.

SUPPLEMENTARY INFORMATION: Title: Evaluation of the Impact of the Summer Food Service Programs Enhancement Demonstrations on Food Insecurity.

Form Number: Not yet assigned.

OMB Number: 0584-NEW.

Expiration Date: Not yet assigned.

Type of Request: New Collection of Information.

Abstract: The Agriculture, Rural Development, Food and Drug Administration, and Related Agencies Appropriations Act of 2010 (Pub. L. 111-80), Section 749(g), directed that the Secretary of Agriculture shall carry out demonstration projects to develop and test methods of providing access to food for children in urban and rural areas during the summer months when schools are not in regular session to reduce or eliminate the food insecurity and hunger of children and to improve the nutritional status of children. Demonstrations of enhancements to existing Summer Food Service Programs (SFSP) will carry out the demonstration projects Congress directed USDA to perform in this section.¹ These demonstrations will include the Home Delivery Demonstration and the Food Backpack Demonstration. The Home Delivery Demonstration will offer breakfast and lunch delivery to the homes of eligible children in rural areas. This demonstration will only operate in rural areas, and only children identified by school districts as eligible for free and reduced-price school meals will be eligible to receive delivered meals. Children, age 18 and younger, normally eligible to receive meals at SFSP sites, will be eligible to receive weekend and holiday meals under the Food Backpack Demonstration Project. In addition, the Act directed the Secretary of Agriculture to provide for an independent evaluation of the demonstration projects using rigorous methodologies. The Evaluation of the Impact of the Summer Food Service Programs Enhancement Demonstrations on Food Insecurity will carry out the provisions of the Act.

¹ USDA is also conducting demonstrations of Summer Electronic Benefits for Children Household-Based demonstrations. Those demonstrations are not part of this Information Collection.

The evaluation of these projects is intended to provide policymakers with clear, rigorous and timely findings to make decisions about potential changes to Federal summer feeding programs during the next Child Nutrition reauthorization cycle. Primarily, the evaluation will examine the impact of the demonstration activities on program operations, benefit usage within target households, and food security. In addition to impact measures, the evaluation will document the process and challenges of implementing the demonstrations. The results will provide valuable information should the demonstration succeed and could lead to policy changes. The evaluation will gather data through surveys from sampled eligible households during the summer and fall of 2011. A third and final household survey will be conducted in summer 2012. In the demonstration areas, roughly the same number of households with eligible children will be sampled from each of two primary strata: treatment group (participating children who have signed up for the summer food program prior to the summer break) and control group (nonparticipating children).

Affected Public: Individuals/Households; State, Local and Tribal Government. State or tribal agencies, usually departments of education or health, oversee the administration of the SFSP which is most frequently conducted by local government, particularly local education authorities.

Respondent Type: the parents/guardians of individual school-aged children in each demonstration area; and State and local agency officials in each demonstration area.

Estimated Number of Respondents: The maximum total estimated number of respondents, assuming a 100% response rate, is 6,320 (3,160 in 2011 and 3,160 in 2012). Over both years this includes: 1,580 treatment and 1,580 control parents/guardians (1 per interviewed household) in each year; and 100 State and local agency officials in each year.

Estimated Number of Responses per Respondent: There will be one interview per parent/guardian and 1 per State or local official.

Estimated Total Annual Responses: 3,260.

Estimated Time per Response: The estimated average response time is 60 minutes (1 hour), as shown in the table below.

Estimated Total Annual Burden on Respondents: The maximum total estimated response time is 3,260 hours in 2011 and 3,260 hours in 2012. See the table below for estimated total annual burden for each type of respondent.

Type of respondent | Respondent type | Type of instrument | Number of respondents (annual) | Frequency of response | Estimated annual responses | Time per respondent | Annual burden hours
Individual/Households | Parent-Guardian | Interviews | 3,160 | 1 | 3,160 | 1 | 3,160
State and Local | State and Local Agency Official | Interviews | 100 | 1 | 100 | 1 | 100
Total Annual Cost to Respondents |  |  | 3,260 |  | 3,260 |  | 3,260

Dated: December 23, 2010.
Julia Paradis,
Administrator, Food and Nutrition Service.

[FR Doc. 2011-106 Filed 1-6-11; 8:45 am]

BILLING CODE 3410-30-P